DEPARTMENT OF HEALTH AND HUMAN SERVICES

Centers for Disease Control and Prevention

Advisory Committee to the Director (ACD), Centers for Disease Control and Prevention (CDC)—State, Tribal, Local and Territorial (STLT) Subcommittee

AGENCY: Centers for Disease Control and Prevention (CDC), Department of Health and Human Services (HHS).

ACTION: Notice of meeting.

SUMMARY: In accordance with the Federal Advisory Committee Act, the Centers for Disease Control and Prevention (CDC), announces the following meeting for the State, Tribal, Local and Territorial Subcommittee, Centers for Disease Control and Prevention (STLT, CDC). This meeting is open to the public, limited only by 100 ports for audio phone lines access available. The public is also welcome to listen to the meeting by (866) 917-2712, passcode 9418625. The public comment period is from 03:50 p.m.-03:55 p.m. EST. Please register for public comment by December 8, 2017 via email to acdirector@cdc.gov.

DATES: The meeting will be held on December 18, 2017, 2:30 p.m. to 4:00 p.m., EST.

ADDRESSES: Audio Line Access Only (866) 917-2712, passcode 9418625.

FOR FURTHER INFORMATION CONTACT: Jose Montero, MD, MPH, Director, Office for State, Tribal, Local and Territorial Support, CDC, 4770 Buford Highway, Mailstop E70, Atlanta, Georgia 30341, (404) 498-0300, ostltsdirector@cdc.gov.

SUPPLEMENTARY INFORMATION:

Purpose: The Subcommittee will provide counsel to the ACD, CDC on strategies, future needs, and challenges faced by State, Tribal, Local and Territorial health agencies, and will provide guidance on opportunities for CDC through the ACD.

Matters To Be Considered: The agenda will include discussions on implementation of ACD-adopted recommendations related to the health department of the future, additional developments that may expand these recommendations, and how CDC can best support STLT health departments. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-23334 Filed 10-25-17; 8:45 am]

BILLING CODE 4163-18-P